DEPARTMENT OF LABOR

Employment and Training Administration

[TA-W-74,420]

Frank Russell Company, Administrative Service Center, Including On-Site Leased Workers From Volt Services, Tacoma, WA; Amended Certification Regarding Eligibility To Apply for Worker Adjustment Assistance

In accordance with Section 223 of the Trade Act of 1974, as amended (“Act”), 19 U.S.C. 2273, the Department of Labor issued a Certification of Eligibility to Apply for Worker Adjustment Assistance on July 30, 2010, applicable to workers of Frank Russell Company, Administrative Service Center, Tacoma, Washington. The notice was published in the Federal Register on August 13, 2010 (75 FR 49531).

At the request of the State agency, the Department reviewed the certification for workers of the subject firm. The workers supply administrative support services for financial investments.

The company reports that workers leased from Volt Services were employed on-site at the Tacoma, Washington location of Frank Russell Company, Administrative Service Center. The Department has determined that these workers were sufficiently under the control of Frank Russell Company, Administrative Service Center to be considered leased workers.

Based on these findings, the Department is amending this certification to include workers leased from Volt Services working on-site at the Tacoma, Washington location of Frank Russell Company, Administrative Service Center.

The amended notice applicable to TA-W-74,420 is hereby issued as follows:

All workers of Frank Russell Company, Administrative Service Center, including on-site leased workers from Volt Services, Tacoma, Washington, who became totally or partially separated from employment on or after July 21, 2009, through July 30, 2012, and all workers in the group threatened with total or partial separation from employment on the date of certification through two years from the date of certification, are eligible to apply for adjustment assistance under Chapter 2 of Title II of the Trade Act of 1974, as amended.

Signed at Washington, DC, this 6th day of December 2010.
Michael W. Jaffe,
Certifying Officer, Division of Trade Adjustment Assistance.

[FR Doc. 2010-31166 Filed 12-10-10; 8:45 am]

BILLING CODE 4510-FN-P